DEPARTMENT OF AGRICULTURE

Forest Service

Notice of New Fee Site

AGENCY: Carson National Forest, USDA Forest Service.

ACTION: Notice of new fee site.

SUMMARY: The Carson National Forest is proposing to charge a $100 fee for the overnight rental of the Amole Canyon Group Shelter. This facility has been recently constructed and has not been available for recreation use prior to this date. Rentals of other shelters in the Taos and Santa Fe area have shown that people appreciate and enjoy the availability of group meeting places for events and for family gatherings. Funds from the shelter reservation will be used for the continued operation and maintenance of the facility. These fees are only proposed and will be determined upon further analysis and public comment.

DATES: Send any comments about these fee proposals by October 2016 so comments can be compiled, analyzed and shared with a Recreation Resource Advisory Committee. Should the fee proposal move forward, the site will likely be available for reservation May 2017.

ADDRESSES: Forest Supervisor, Carson National Forest, 208 Cruz Alta Road, Taos, NM 87557.

FOR FURTHER INFORMATION CONTACT: Sharon Cuevas, Recreation Fee Coordinator, (505) 842-3235.

SUPPLEMENTARY INFORMATION: The Federal Recreation Lands Enhancement Act (Title VII, Pub. L. 108-447) directed the Secretary of Agriculture to publish a six month advance notice in the Federal Register whenever new recreation fee areas are established.

This new fee will be reviewed by a Recreation Resource Advisory Committee prior to a final decision and implementation.

Currently Federal and State agencies in the state of New Mexico offer group shelter rentals of this type as part of a successful program. These sites receive a high level of use and handle the large group sizes common in the area.

The site consists of a large log-built canopy shelter on a concrete pad with two vault toilets, a pedestal grill, accessible parking, and many paved parking spurs to accommodate several camper trailers. The Amole Canyon Group Shelter is located 15 miles from the community of Taos New Mexico adjacent to the High Road to Taos Scenic Byway.

A business analysis of the Amole Canyon Group Shelter has shown that people desire having this sort of recreation experience on the Carson National Forest. A market analysis indicates that the $100/per night fee is both reasonable and acceptable for this sort of unique recreation experience.

People wanting to rent this facility will need to do so through the National Recreation Reservation Service, at www.recreation.gov or by calling 1-877-444-6777. The National Recreation Reservation Service charges a $9 fee for reservations.

Dated: July 8, 2016.
James Duran,
Carson National Forest Supervisor.

[FR Doc. 2016-16750 Filed 7-15-16; 8:45 am]

BILLING CODE 3411-15-P